DEPARTMENT OF AGRICULTURE

Animal and Plant Health Inspection Service

9 CFR Part 2

[Docket No. APHIS-2009-0053]

RIN 0579-AD23

Animal Welfare; Importation of Live Dogs

AGENCY: Animal and Plant Health Inspection Service, USDA.

ACTION: Proposed rule.

SUMMARY: We are proposing to amend the regulations to implement an amendment to the Animal Welfare Act (AWA). The Food, Conservation, and Energy Act of 2008 added a new section to the AWA to restrict the importation of certain live dogs. Consistent with this amendment, this proposed rule would, with certain limited exceptions, prohibit the importation of dogs from any part of the world into the continental United States or Hawaii for purposes of resale, research, or veterinary treatment, unless the dogs are in good health, have received all necessary vaccinations, and are at least 6 months of age. This proposed rule is necessary to implement the amendment to the AWA and would help to ensure the welfare of imported dogs.

DATES: We will consider all comments that we receive on or before October 31, 2011.

ADDRESSES: You may submit comments by either of the following methods:

• Federal eRulemaking Portal: Go to http://www.regulations.gov/#!documentDetail;D=APHIS-2009-0053-0001.

• Postal Mail/Commercial Delivery: Send your comment to Docket No. APHIS-2009-0053, Regulatory Analysis and Development, PPD, APHIS, Station 3A-03.8, 4700 River Road Unit 118, Riverdale, MD 20737-1238.

Supporting documents and any comments we receive on this docket may be viewed at http://www.regulations.gov/#!docketDetail;D=APHIS-2009-0053 or in our reading room, which is located in room 1141 of the USDA South Building, 14th Street and Independence Avenue, SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: Dr. Gerald Rushin, Veterinary Medical Officer, Animal Care, APHIS, 4700 River Road Unit 84, Riverdale, MD 20737-1231; (301) 734-0954.

SUPPLEMENTARY INFORMATION:

Background

Under the Animal Welfare Act (AWA or the Act, 7 U.S.C. 2131 et seq.), the Secretary of Agriculture is authorized to promulgate standards and other requirements governing the humane handling, care, treatment, and transportation of certain animals by dealers, research facilities, exhibitors, operators of auction sales, and carriers and intermediate handlers. The Secretary has delegated responsibility for administering the AWA to the Administrator of U.S. Department of Agriculture's (USDA) Animal and Plant Health Inspection Service (APHIS). Within APHIS, the responsibility for administering the AWA has been delegated to the Deputy Administrator for Animal Care (AC). Regulations and standards are established under the AWA and are contained in the Code of Federal Regulations (CFR) in 9 CFR parts 1, 2, and 3 (referred to below as the regulations). Part 2 provides administrative requirements and sets forth institutional responsibilities for regulated parties.

The Food, Conservation, and Energy Act of 2008 (Pub. L. 110-246, signed into law on June 18, 2008) added a new section to the Animal Welfare Act (7 U.S.C. 2148) to restrict the importation of certain live dogs. As amended, the AWA now prohibits the importation of dogs into the United States for resale purposes, unless the Secretary determines that the dogs are in good health, have received all necessary vaccinations, and are at least 6 months of age. The AWA further provides that the Secretary, by regulation, must provide an exception to these requirements in any case in which a dog is imported for research purposes or veterinary treatment. An exception to the at least 6-month age requirement is also provided in Section 18 of the AWA for dogs that are lawfully imported into Hawaii from the British Isles, Australia, Guam, or New Zealand in compliance with the applicable regulations of Hawaii, provided the dogs are not transported out of Hawaii for purposes of resale at less than 6 months of age. Persons who fail to comply with these provisions are subject to any penalties under Section 18 of the AWA and must provide for the cost of the care, forfeiture, and adoption of each applicable dog, at his or her expense.

The AWA, as amended, directs the Secretary and the Secretaries of Health and Human Services (HHS), Commerce, and Homeland Security to promulgate such regulations as are necessary to implement and enforce these new provisions of the AWA. After close consultation and cooperation among those Federal departments, APHIS is proposing to add a new subpart to the regulations, subpart J in 9 CFR part 2, that would contain the new requirements for the importation of certain live dogs. The proposed requirements are described in detail below.

Import Permit

We are proposing to require that live dogs imported into the continental United States (i.e., the contiguous 48 States and Alaska) or Hawaii for purposes of resale, research, or veterinary treatment be accompanied by an import permit issued by APHIS. Proposed § 2.150(a) would require the importation to occur within 30 days after the proposed date of arrival stated in the import permit. The import permit would help ensure that the requirements for importing live dogs under the proposed subpart are understood and met by the importer.

We propose to require that any person desiring to import live dogs for purposes of resale, research, or veterinary treatment complete an application for an import permit and submit it to the Animal and Plant Health Inspection Service, Animal Care, 4700 River Road Unit 84, Riverdale, MD 20737-1234 or through Animal Care's Web site at: http://www.aphis.usda.gov/animal_welfare. Paper application forms for import permits may be obtained from Animal Care at the address listed above.

The application must include the name and address of the person intending to export the dog(s) to the continental United States or Hawaii; the name and address of the person intending to import the dog(s) into the continental United States or Hawaii; the number of dogs to be imported and the breed, sex, age, color, markings, and other identifying information of each dog; the purpose of the importation; the port of embarkation and the mode of transportation; the port of entry in the continental United States or Hawaii; the proposed date of arrival in the continental United States or Hawaii; and the name and address of the person to whom the dog(s) will be delivered in the continental United States or Hawaii and, if the dog(s) is imported for research purposes, the USDA registration number of the research facility where the dog will be used for research, tests, or experiments. The information required for completion of an application for importation helps APHIS determine whether the dogs appear eligible for importation, to respond to an applicant, to identify the dogs at the port of entry, and to contact appropriate persons if any questions arise concerning the importation.

APHIS will review the application and, if the application is complete, an import permit may be issued. Note that an import permit does not guarantee that any dog will be allowed entry into the continental United States or Hawaii; the dogs will be allowed entry only if they meet all applicable requirements of subpart J as well as any other applicable regulations or statutory requirements. We note, in particular, that: (1) All dogs imported into the United States are currently subject to restrictions established by HHS' Centers for Disease Control and Prevention (CDC) in 42 CFR part 71; and (2) dogs imported into the United States from screwworm-affected regions and dogs that are used to handle livestock and are imported from any part of the world except Canada, Mexico, Central America, and the West Indies are currently subject to restrictions established by APHIS' Veterinary Services program in 9 CFR part 93.

Certifications

We would require that live dogs imported into the continental United States or Hawaii for purposes of resale, research, or veterinary treatment be accompanied by two certificates: An original health certificate and a valid rabies vaccination certificate. As discussed below under the heading “Exceptions,” we would provide limited exceptions to these requirements for dogs imported for certain research studies or veterinary treatment, as well as dogs imported into Hawaii from certain regions of the world.

Original Health Certificate

This proposed section would require that an original health certificate be issued in English by a veterinarian with a valid license to practice veterinary medicine in the country of export and bear the signature and license number of the veterinarian issuing the certificate. These requirements would help ensure that the veterinarian who issues the health certificate is authorized to do so.

This proposed section would also require that the health certificate specify the name and address of the person intending to import the dog into the continental United States or Hawaii. This information would allow APHIS to contact the appropriate person if any questions arise during importation. Further, we propose to require specific information and statements to be included in the health certificate. The health certificate would have to identify the dog on the basis of breed, sex, age, color, markings, and other identifying information and state that: (1) The dog is at least 6 months of age; (2) the dog was vaccinated, not more than 12 months before the date of arrival at the U.S. port, for distemper, hepatitis, leptospirosis, parvovirus, and parainfluenza virus (DHLPP) ¹ at a frequency that provides continuous protection of the dog from those diseases and is in accordance with currently accepted practices as cited in veterinary medicine reference guides; and (3) the dog is in good health (i.e., free of any infectious disease or physical abnormality which would endanger the dog or other animals or endanger public health, including, but not limited to, parasitic infection, emaciation, lesions of the skin, nervous system disturbances, jaundice, or diarrhea).

¹ Distemper is an airborne viral disease of the lungs, intestines and brain; infectious canine hepatitis is a viral disease of the liver; leptospirosis is a bacterial disease of the urinary tract; parainfluenza is an infectious bronchitis; and parvovirus is a viral disease of the intestines.

The health certificate would help personnel at the port of entry determine if the dog meets the requirements set forth in proposed subpart J. The statements contained in the health certificate would help ensure, among other things, that the dog is in good health, has received vaccinations necessary to protect against DHLPP, and is at least 6 months of age.

Rabies Vaccination Certificate

Proposed § 2.151(a)(2) sets forth the rabies vaccination certificate requirements for live dogs offered for entry into the continental United States or Hawaii for purposes of resale, research, or veterinary treatment. Like the original health certificate, this proposed section would require that the rabies vaccination certificate be issued in English by a veterinarian with a valid license to practice veterinary medicine in the country of export and bear the signature and license number of the veterinarian issuing the certificate. These requirements would help ensure that the veterinarian who issues the rabies vaccination certificate is authorized to do so. This requirement could also be met by providing an exact copy of the rabies vaccination certificate if so required under the Public Health Service regulations in 42 CFR 71.51.

Dogs that are less than 3 months of age are too young to be vaccinated against rabies. Therefore, this proposed section would provide that the dogs would have to be accompanied by a rabies vaccination certificate that was issued for the dog at not less than 3 months of age at the time of vaccination.

This proposed section would also require that the health certificate specify the name and address of the person intending to import the dogs into the continental United States or Hawaii, as well as identify the dog on the basis of breed, sex, age, color, markings, and other identifying information. This information would allow APHIS to contact the appropriate person (i.e., the person intending to import the dog) if any questions arise during importation and to confirm that the health certificate and rabies vaccination certificates were issued for the same dog that was specified on the import permit. Further, proposed § 2.151(a)(2) would require specific statements to be included in the rabies vaccination certificate. Paragraphs (a)(2)(iii) through (a)(2)(iv) provide that the rabies vaccination certificate would have to specify: (1) A date of rabies vaccination at least 30 days before the date of arrival of the dog at a U.S. port; and (2) a date of expiration of the vaccination which is after the date of arrival of the dog at a U.S. port. If no date of expiration is specified, then the date of vaccination would be no more than 12 months before the date of arrival at a U.S. port. These requirements would help to ensure that the dog has been properly vaccinated against rabies and that the vaccination has not expired.

The rabies vaccination certificate would help personnel at the port of entry determine if the dog meets the requirements set forth in proposed subpart J. The statements contained in the health certificate would help ensure that the dog has been appropriately vaccinated against rabies.

Exceptions

Section 18 of the AWA directs the Secretary to provide, by regulation, an exception to the good health, vaccination, and at least 6-month age requirements in any case in which a dog is imported for research purposes or veterinary treatment. An exception to the at least 6-month age requirement is also provided in the AWA for dogs that are lawfully imported into Hawaii from the British Isles, Australia, Guam, or New Zealand in compliance with the applicable regulations of Hawaii, provided the dogs are not transported out of Hawaii for purposes of resale at less than 6 months of age. The legislative history suggests that this exception was adopted in recognition of Hawaii's unique situation arising out of its current quarantine regulations. Notably, Hawaii is the only State that is entirely rabies-free and all dogs transported into Hawaii, regardless of age or purpose, must comply with its import requirements.

We propose to provide a limited exception for persons intending to import a live dog into the continental United States or Hawaii for use in research, tests, or experiments at a research facility, as defined in § 1.1 of the regulations, provided that three conditions are met. First, we would require that the dog be accompanied by an import permit for the reasons discussed above. Second, the dog would have to be accompanied by a valid rabies vaccination certificate and/or an original health certificate that states that the dog is at least 6 months of age, in good health, and/or has been vaccinated against DHLPP, unless the person intending to import the dog submits satisfactory evidence to Animal Care at the time of his or her application for an import permit that the specific provision at issue (age, health, or vaccination) would interfere with the dog's use in such research, tests, or experiments in accordance with a research protocol and that the proposal has been approved by the research facility's Institutional Animal Care and Use Committee (IACUC). In such cases, no rabies vaccination certificate would be required, and/or the health certificate would not have to include the specific statement at issue, as appropriate. This exception is limited to IACUC-approved protocols that require the use of imported dogs that are less than 6 months of age, are not in good health, and/or have not been vaccinated against DHLPP or rabies. It does not apply to research studies that simply require the use of imported dogs.

Proposed § 2.151(b)(2) would provide a limited exception for persons intending to import one or more dogs into the continental United States or Hawaii for purposes of veterinary treatment by a licensed veterinarian, as defined in § 1.1 of the regulations, provided that three conditions are met. First, we would require that the dog be accompanied by import permit as discussed above. Second, the dog would have to be accompanied by the original health certificate. The health certificate would not have to state that the dog is at least 6 months of age, in good health, and has been vaccinated against DHLPP. However, the veterinarian would have to state on the health certificate that the dog is in need of veterinary treatment that cannot be obtained in the country of export and specify the name and address of the licensed veterinarian in the continental United States or Hawaii who intends to provide the dog such veterinary treatment. No rabies vaccination certificate would be required for dogs so imported. Third, the person who imports the dog would have to complete a veterinary treatment agreement with Animal Care at the time of application for an import permit and confine the dog until the conditions specified in the agreement are met. Such conditions may include determinations by the licensed veterinarian in the continental United States or Hawaii that the dog is in good health, has been adequately vaccinated against DHLPP and rabies, and is at least 6 months of age. The person importing the dog would bear the expense of veterinary treatment and confinement. These requirements are necessary to validate that dogs offered for entry into the continental United States or Hawaii for veterinary treatment are in need of treatment by a veterinarian in the United States and can be safely released from confinement into the United States.

Finally, proposed § 2.151(b)(3) would provide an exception to the at least 6-month age requirement for any person who lawfully imports a live dog into the State of Hawaii from the British Isles, Australia, Guam, or New Zealand in compliance with the applicable regulations of the State of Hawaii, provided that the dog is not transported out of the State of Hawaii for purposes of resale at less than 6 months of age. Dogs so imported would need to be accompanied at the port of entry by an import permit, a health certificate, and a rabies vaccination certificate, except that the veterinarian need not certify on the health certificate that the dog is at least 6 months of age. This exception is necessary to implement section 18(b)(2)(B) of the AWA.

All of the above proposed exceptions are necessary to implement the statute.

Notification of Arrival

Proposed § 2.152 requires that, upon the arrival of a dog at the port of first arrival in the continental United States or Hawaii, the person wishing to import the dog, or his or her agent, would have to present the import permit and any applicable certificates and veterinary treatment agreement to the collector of customs for use at that port. This proposed requirement is necessary to ensure that the dogs are eligible for importation.

Dogs Refused Entry

Proposed § 2.153 would specify that any dog refused entry into the continental United States or Hawaii for noncompliance with the requirements of this subpart may be removed from the United States or may be seized by an APHIS official and the person intending to import the dog shall provide for the cost of the care (including appropriate veterinary care), forfeiture, and adoption of the dog, at his or her expense. This proposed section clarifies the measures that may be taken when a dog is refused entry into the continental United States or Hawaii. These measures are in addition to any penalties that may be assessed to any person for failure to comply with the proposed subpart and section 18 of the AWA.

These proposed regulations would help to ensure the welfare of certain live dogs imported from any part of the world into the continental United States and Hawaii.

Executive Orders 12866 and 13563 and Regulatory Flexibility Act

This proposed rule has been determined to be significant for the purposes of Executive Order 12866 and, therefore, has been reviewed by the Office of Management and Budget.

We have prepared an economic analysis for this rule. The economic analysis provides a cost-benefit analysis, as required by Executive Order 12866, and an initial regulatory flexibility analysis that examines the potential economic effects of this proposed rule on small entities, as required by the Regulatory Flexibility Act. The economic analysis is summarized below. Copies of the full analysis are available by contacting the person listed under FOR FURTHER INFORMATION CONTACT or on the Regulations.gov Web site (see ADDRESSES above for instructions for accessing Regulations.gov).

Based on the information we have, there is no reason to conclude that adoption of this proposed rule would result in any significant economic effect on a substantial number of small entities. However, we do not currently have all of the data necessary for a comprehensive analysis of the effects of this proposed rule on small entities. Therefore, we are inviting comments on potential effects. In particular, we are interested in determining the number and kind of small entities that may incur benefits or costs from the implementation of this proposed rule.

The full economic analysis examines impacts for U.S. small entities this proposed rule, which would amend the AWA regulations to prohibit, with certain exceptions, the importation of dogs for purposes of resale, research, or veterinary treatment, unless they are in good health, have all necessary vaccinations, and are 6 months of age or older. The vaccinations are rabies vaccination (which is already required by CDC for imported dogs in most instances) and DHLPP vaccination. The rule would include limited exceptions for (1) dogs imported for certain research studies or veterinary treatment, and (2) dogs lawfully imported into the State of Hawaii from the British Isles, Australia, Guam, or New Zealand in compliance with applicable regulations of the State of Hawaii, provided the dogs are not transported out of the State of Hawaii for resale at less than 6 months of age.

The rule would promote the humane treatment of certain imported dogs and benefit most U.S. dog importers and dealers by ensuring that these dogs are in good health, vaccinated, and not too young. In addition, there could be a positive economic impact for U.S. commercial dog breeding facilities, given that puppies currently imported at less than 6 months of age compete for the same market, but at lower prices. The only entities that may be adversely affected are those that currently import dogs, or purchase imported dogs, that do not meet the new requirements, particularly those that import or purchase from importers dogs that are less than 6 months of age.

The requirements of this proposed rule may mean additional costs for vaccines, veterinary care and paperwork for some entities. The cost of a complete series of DHLPP vaccinations could be between $50 and $105 per dog. Because rabies vaccinations are already required in most instances by CDC, we do not expect increased costs associated with that requirement. The cost of vaccinations is negligible when compared to the costs that can result from importing a diseased dog. The costs associated with a single rabid dog recently imported from Iraq, for example, are estimated to have totaled more than $28,000. Veterinary care and vaccinations are regular responsibilities of owning a companion animal in the United States and these requirements of the proposed rule are therefore normal for the care of a dog.

According to the U.S. Bureau of Census, the United States imported an average of about 17,000 dogs per year between 2005 and 2010. Assuming that none of these imported dogs received DHLPP vaccinations and all were at least 6 months of age, and the range of vaccination costs above, the total cost of providing the vaccinations required under this proposed rule could have ranged from $850,000 to $1.8 million. APHIS believes, however, that many of the dogs affected by this rule already receive the DHLPP vaccination as a matter of course and so will not bear any additional costs as a result of this rule. Although there may be costs associated with obtaining a health certificate, providing the required vaccinations is likely to be the largest additional cost associated with the rule. Because shipments with a fair market value of less than $2,000 are not included in these statistics, the number of dogs potentially covered by this rule may be underestimated.

The Small Business Administration (SBA) has established guidelines for determining firms considered to be small under the Regulatory Flexibility Act. Importers of live dogs for resale, research, and veterinary treatment would be directly affected by this proposed rule. While the exact number and size of affected entities is not known, in 2007 there were about 12,600 establishments in the generalized category of other miscellaneous nondurable goods merchant wholesalers (NAICS 424990), which includes importers of dogs, and about 99 percent of those establishments were considered small. Importers may face increased vaccination and care costs abroad, unless they already vaccinate against DHLPP (as mentioned, rabies vaccinations are already required in most instances by CDC) or they qualify for the narrow exceptions for dogs imported for certain research studies or veterinary treatment. Any increase in costs for importers may be passed on to entities buying the imported dogs. On the other hand, such entities might be positively affected due to the greater assurance that an imported dog is in good health and of an eligible age.

Theoretically, any change in the number of imported dogs into the United States could affect the demand for foreign veterinary services and domestic veterinary services, dog products and dog food. However, we expect that any impact of the proposed rule on these industries would be negligible. Imported dogs comprise a very small fraction of the U.S. dog population, well under one percent. It is therefore highly unlikely that any change in the number of imported dogs would significantly affect those domestic markets.

We believe that the benefits of this rule, including the unquantifiable enhancement of animal welfare, justify the costs. Benefits of the rule include promoting the humane treatment of covered imported dogs in keeping with the requirements of the Animal Welfare Act (AWA) and with standard health practices for dogs in the United States. The rule could potentially also yield benefits by preventing the spread of diseases in the United States. Unvaccinated dogs imported into the United States could potentially spread communicable diseases to other dogs or human beings.

Because there is uncertainty surrounding the number of dogs potentially covered by this rule and the cost of providing the necessary vaccines and health certificates for imported dogs, APHIS welcomes information that the public may provide on the number of imported dogs and possible impacts of the rule. Similarly, there are no available data regarding the age of dogs that are currently imported for resale, so we are unable to estimate the effects of the AWA prohibition on the importation, for resale purposes, of dogs less than 6 months of age. We welcome any information that potentially affected entities or the general public could provide in that regard. APHIS also welcomes information that the public may provide concerning the size distribution of entities that import dogs for resale, research, and veterinary treatment, and any other comments on the rule's possible impacts.

Executive Order 12988

This proposed rule has been reviewed under Executive Order 12988, Civil Justice Reform. It is not intended to have retroactive effect. The Act does not provide administrative procedures which must be exhausted prior to a judicial challenge to the provisions of this rule.

Paperwork Reduction Act

In accordance with section 3507(d) of the Paperwork Reduction Act of 1995 (44 U.S.C. 3501 et seq.), the information collection or recordkeeping requirements included in this proposed rule have been submitted for approval to the Office of Management and Budget (OMB). Please send written comments to the Office of Information and Regulatory Affairs, OMB, Attention: Desk Officer for APHIS, Washington, DC 20503. Please state that your comments refer to Docket No. APHIS-2009-0053. Please send a copy of your comments to: (1) Docket No. APHIS-2009-0053, Regulatory Analysis and Development, PPD, APHIS, Station 3A-03.8, 4700 River Road Unit 118, Riverdale, MD 20737-1238, and (2) Clearance Officer, OCIO, USDA, Room 404-W, 14th Street and Independence Avenue, SW., Washington, DC 20250. A comment to OMB is best assured of having its full effect if OMB receives it within 30 days of publication of this proposed rule.

APHIS is proposing to amend the regulations to implement an amendment to the AWA. The Food, Conservation, and Energy Act of 2008 added a new section to the AWA to restrict the importation of certain live dogs for resale. Consistent with this amendment, this proposed rule would, with certain exceptions, prohibit the importation of dogs from any part of the world into the continental United States or Hawaii for purposes of resale, research, or veterinary treatment, unless the dogs are in good health, have received all necessary vaccinations, and are at least 6 months of age.

The proposed regulations include information collection activities for import permits, health certificates, and rabies vaccination certificates for certain dogs so imported. The proposed regulations include certain exceptions to the rabies vaccination certificate requirements for dogs imported for research purposes and veterinary treatment, but require a veterinary treatment agreement for dogs so imported for veterinary treatment.

We are soliciting comments from the public (as well as affected agencies) concerning our proposed information collection and recordkeeping requirements. These comments will help us:

(1) Evaluate whether the proposed information collection is necessary for the proper performance of our agency's functions, including whether the information will have practical utility;

(2) Evaluate the accuracy of our estimate of the burden of the proposed information collection, including the validity of the methodology and assumptions used;

(3) Enhance the quality, utility, and clarity of the information to be collected; and

(4) Minimize the burden of the information collection on those who are to respond (such as through the use of appropriate automated, electronic, mechanical, or other technological collection techniques or other forms of information technology; e.g., permitting electronic submission of responses).

Estimate of burden: Public reporting burden for this collection of information is estimated to average 0.25 hours per response.

Respondents: Importers of live dogs and veterinarians.

Estimated annual number of respondents: 150,000.

Estimated annual number of responses per respondent: 2.893333.

Estimated annual number of responses: 434,000.

Estimated total annual burden on respondents: 108,500 hours. (Due to averaging, the total annual burden hours may not equal the product of the annual number of responses multiplied by the reporting burden per response.)

Copies of this information collection can be obtained from Mrs. Celeste Sickles, APHIS' Information Collection Coordinator, at (301) 851-2908.

E-Government Act Compliance

The Animal and Plant Health Inspection Service is committed to compliance with the E-Government Act to promote the use of the Internet and other information technologies, to provide increased opportunities for citizen access to Government information and services, and for other purposes. For information pertinent to E-Government Act compliance related to this proposed rule, please contact Mrs. Celeste Sickles, APHIS' Information Collection Coordinator, at (301) 851-2908.

List of Subjects in 9 CFR Part 2

Animal welfare, Pets, Reporting and recordkeeping requirements, Research.

Accordingly, we propose to amend 9 CFR part 2 as follows:

PART 2—REGULATIONS

1. The authority citation for part 2 continues to read as follows:

Authority: 7 U.S.C. 2131-2159; 7 CFR 2.22, 2.80, and 371.7.

2. A new subpart J, consisting of §§ 2.150 through 2.153, is added to read as follows:

Subpart J—Importation of Live Dogs
2.150 Import permit.
2.151 Certifications.
2.152 Notification of arrival.
2.153 Dogs refused entry.

Subpart J—Importation of Live Dogs

§ 2.150 Import permit.

(a) No person shall import a live dog from any part of the world into the continental United States or Hawaii for purposes of resale, research, or veterinary treatment unless the dog is accompanied by an import permit issued by APHIS and unless imported into the continental United States or Hawaii within 30 days after the proposed date of arrival stated in the import permit.

(b) An application for an import permit must be submitted to the Animal and Plant Health Inspection Service, Animal Care, 4700 River Road Unit 84, Riverdale, MD 20737-1234 or though Animal Care's Web site (http://www.aphis.usda.gov/animal_welfare/). Paper application forms for import permits may be obtained from Animal Care at the address listed above.

(c) The completed application must include the following information:

(1) The name and address of the person intending to export the dog(s) to the continental United States or Hawaii;

(2) The name and address of the person intending to import the dog(s) into the continental United States or Hawaii;

(3) The number of dogs to be imported and the breed, sex, age, color, markings, and other identifying information of each dog;

(4) The purpose of the importation;

(5) The port of embarkation and the mode of transportation;

(6) The port of entry in the continental United States or Hawaii;

(7) The proposed date of arrival in the continental United States or Hawaii; and

(8) The name and address of the person to whom the dog(s) will be delivered in the continental United States or Hawaii and, if the dog(s) is or are imported for research purposes, the USDA registration number of the research facility where the dog will be used for research, tests, or experiments.

(d) After receipt and review of the application by APHIS, an import permit indicating the applicable conditions for importation under this subpart may be issued for the importation of the dog(s) described in the application if such dog(s) appears to be eligible to be imported. Even though an import permit has been issued for the importation of a dog, the dog may only be imported if all applicable requirements of this subpart and any other applicable regulations of this subchapter and any other statute or regulation of any State or of the United States are met.

§ 2.151 Certifications.

(a) Except as provided in paragraph (b) of this section, no person shall import a live dog from any part of the world into the continental United States or Hawaii for purposes of resale, research, or veterinary treatment unless the following conditions are met:

(1) Health certificate. Each dog is accompanied by an original health certificate issued in English by a licensed veterinarian with a valid license to practice veterinary medicine in the country of export that:

(i) Specifies the name and address of the person intending to import the dog into the continental United States or Hawaii;

(ii) Identifies the dog on the basis of breed, sex, age, color, markings, and other identifying information;

(iii) States that the dog is at least 6 months of age;

(iv) States that the dog was vaccinated, not more than 12 months before the date of arrival at the U.S. port, for distemper, hepatitis, leptospirosis, parvovirus, and parainfluenza virus at a frequency that provides continuous protection of the dog from those diseases and is in accordance with currently accepted practices as cited in veterinary medicine reference guides;

(v) States that the dog is in good health (i.e., free of any infectious disease or physical abnormality which would endanger the dog or other animals or endanger public health, including, but not limited to, parasitic infection, emaciation, lesions of the skin, nervous system disturbances, jaundice, or diarrhea); and

(vi) Bears the signature and the license number of the veterinarian issuing the certificate.

(2) Rabies vaccination certificate. Each dog is accompanied by a valid rabies vaccination certificate ⁶ that was issued in English by a licensed veterinarian with a valid license to practice veterinary medicine in the country of export for the dog not less than 3 months of age at the time of vaccination that:

⁶ Alternatively, this requirement can be met by providing an exact copy of the rabies vaccination certificate if so required under the Public Health Service regulations in 42 CFR 71.51.

(i) Specifies the name and address of the person intending to import the dog into the continental United States or Hawaii;

(ii) Identifies the dog on the basis of breed, sex, age, color, markings, and other identifying information;

(iii) Specifies a date of rabies vaccination at least 30 days before the date of arrival of the dog at a U.S. port;

(iv) Specifies a date of expiration of the vaccination which is after the date of arrival of the dog at a U.S. port. If no date of expiration is specified, then the date of vaccination shall be no more than 12 months before the date of arrival at a U.S. port; and

(v) Bears the signature and the license number of the veterinarian issuing the certificate.

(b) Exceptions. (1) The provisions of paragraphs (a)(1)(iii), (a)(1)(iv), (a)(1)(v), and/or (a)(2) of this section do not apply to any person who imports a live dog from any part of the world into the continental United States or Hawaii for use in research, tests, or experiments at a research facility, provided that: Such person submits satisfactory evidence to Animal Care at the time of his or her application for an import permit that the specific provision(s) would interfere with the dog's use in such research, tests, or experiments in accordance with a research proposal and the proposal has been approved by the research facility IACUC.

(2) The provisions of paragraphs (a)(1)(iii) through (a)(1)(v) and (a)(2) of this section do not apply to any person who imports a live dog from any part of the world into the continental United States or Hawaii for veterinary treatment by a licensed veterinarian, provided that:

(i) The original health certificate required in paragraph (a)(1) of this section states that the dog is in need of veterinary treatment that cannot be obtained in the country of export and states the name and address of the licensed veterinarian in the continental United States or Hawaii who intends to provide the dog such veterinary treatment; and

(ii) The person who imports the dog completes a veterinary treatment agreement with Animal Care at the time of application for an import permit and confines the animal until the conditions specified in the agreement are met. Such conditions may include determinations by the licensed veterinarian in the continental United States or Hawaii that the dog is in good health, has been adequately vaccinated against DHLPP and rabies, and is at least 6 months of age. The person importing the dog shall bear the expense of veterinary treatment and confinement.

(3) The provisions of paragraph (a)(1)(iii) of this section do not apply to any person who lawfully imports a live dog into the State of Hawaii from the British Isles, Australia, Guam, or New Zealand in compliance with the applicable regulations of the State of Hawaii, provided that the dog is not transported out of the State of Hawaii for purposes of resale at less than 6 months of age.

§ 2.152 Notification of arrival.

Upon the arrival of a dog at the port of first arrival in the continental United States or Hawaii, the person intending to import the dog, or his or her agent, must present the import permit and any applicable certifications and veterinary treatment agreement required by this subpart to the collector of customs for use at that port.

§ 2.153 Dogs refused entry.

Any dog refused entry into the continental United States or Hawaii for noncompliance with the requirements of this subpart may be removed from the continental United States and Hawaii or may be seized and the person intending to import the dog shall provide for the cost of the care (including appropriate veterinary care), forfeiture, and adoption of the dog, at his or her expense.

Done in Washington, DC, this 29th day of August 2011.
Edward Avalos,
Under Secretary for Marketing and Regulatory Programs.

[FR Doc. 2011-22413 Filed 8-31-11; 8:45 am]

BILLING CODE 3410-34-P